FEDERAL MARITIME COMMISSION

[Docket No. 14-05]

Huntington International, Inc., JC Horizon Ltd., and Judy Lee—Possible Violations of The Shipping Act of 1984; Order of Investigation and Hearing

AGENCY: Federal Maritime Commission.

DATES: The Order of Investigation and Hearing was served June 4, 2014.

ACTION: Notice of Order of Investigation and Hearing.

Authority: 46 U.S.C. 41302.

SUPPLEMENTARY INFORMATION: On June 4, 2014, the Federal Maritime Commission instituted an Order of Investigation and Hearing entitled Huntington International, Inc., JC Horizon Ltd., and Judy Lee—Possible Violations of Sections 10(a)(1) and 19 of the Shipping Act. Acting pursuant to Section 11 of the Shipping Act, 46 U.S.C. 41302, that investigation is instituted to determine:

(1) Whether Huntington International, Inc. violated (a) section 10(a)(1) of the Shipping Act, 46 U.S.C. 41102(a), and the Commission's regulations, 46 CFR 515.41(a), by knowingly and willfully sharing compensation or freight forwarding fees with a shipper, thereby providing the means through which the shipper obtained transportation at less than the rates and charges otherwise applicable; (b) sections 19(a) and (b) of the Shipping Act, 46 U.S.C. 40901, 40902, by acting as an ocean freight forwarder without a license and without filing evidence of financial responsibility; (c) section 19(e) of the Shipping Act, 46 U.S.C. 40904, and the Commission's regulations, 46 CFR 515.42, by collecting freight forwarder compensation for shipments in which the company's Chief Financial Officer and Director had a beneficial interest;

(2) whether JC Horizon Ltd. and Judy Lee, an individual, violated section 10(a)(1) of the Shipping Act, by knowingly and willfully directing Huntington International, Inc., an ocean freight forwarder, to transfer monies derived from freight forwarder compensation collected from ocean carriers on shipments of JC Horizon, or other companies controlled by Judy Lee, and thereby obtaining ocean transportation at less than the applicable rates and charges; and

(3) whether, in the event violations of the Shipping Act or the Commission's regulations are found, civil penalties should be assessed against Huntington International, Inc., JC Horizon Ltd., and/or Judy Lee, and, if so, the amount of the penalties to be assessed, and also whether appropriate cease and desist orders should be entered.

The Order may be viewed in its entirety at http://www.fmc.gov/14-05.

Rachel E. Dickon,
Assistant Secretary.

[FR Doc. 2014-13534 Filed 6-10-14; 8:45 am]

BILLING CODE 6730-01-P